ENVIRONMENTAL PROTECTION AGENCY

[OPP-2004-0390; FRL-7688-4]

Pesticide Product Registrations; Conditional Approval

AGENCY: Environmental Protection Agency(EPA).

ACTION: Notice.

SUMMARY: This notice announces Agency approval of applications submitted by MycoLogic, Inc., to conditionally register the pesticide products Chontrol Paste and CP-PFC 2139 and an application submitted by Woodstream Corporation to conditionally register the pesticide product Animal Repellent Granular containing new active ingredients not included in any previously registered products pursuant to the provisions of section 3(c)(7)(C) of the Federal Insecticide, Fungicide, and Rodenticide Act (FIFRA), as amended.

ADDRESSES: Comments may be submitted electronically, by mail, or through hand delivery/courier. Follow the detailed instructions as provided in Unit I. of the SUPPLEMENTARY INFORMATION.

FOR FURTHER INFORMATION CONTACT: The Regulatory Action Leader, Biopesticides and Pollution Prevention Division (7511C), listed in the table in this unit:

Regulatory Action Leader | Telephone number/e-mail address | Mailing address | EPA Reg. No.
Jim Downing | (703) 308-9071; downing.jim@epa.gov | Biopesticides and Pollution Prevention Division (7511C), Office of Pesticides Programs, Environmental Protection Agency, 1200 Pennsylvania Ave., NW., Washington, DC 20460-0001 | 74200-1 74200-2
Todd Peterson | (703) 308-7224; peterson.todd@epa.gov | Do. | 50932-10

SUPPLEMENTARY INFORMATION:

I. General Information

A. Does this Action Apply to Me?

You may be potentially affected by this action if you are an agricultural producer, food manufacturer, or pesticide manufacturer. Potentially affected entities may include, but are not limited to:

• Crop production (NAICS 111)

• Animal production (NAICS 112)

• Food manufacturing (NAICS 311)

• Pesticide manufacturing (NAICS 32532)

This listing is not intended to be exhaustive, but rather provides a guide for readers regarding entities likely to be affected by this action. Other types of entities not listed in this unit could also be affected. The North American Industrial Classification System (NAICS) codes have been provided to assist you and others in determining whether this action might apply to certain entities. If you have any questions regarding the applicability of this action to a particular entity, consult the person listed under FOR FURTHER INFORMATION CONTACT.

B. How Can I Get Copies of this Document and Other Related Information?

1. Docket. EPA has established an official public docket for this action under docket identification (ID) number OPP-2004-0390. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1801 S. Bell St., Arlington, VA. This docket facility is open from 8:30 a.m. to 4 p.m., Monday through Friday, excluding legal holidays. The docket telephone number is (703) 305-5805.

In accordance with section 3(c)(2) of FIFRA, a copy of the approved label, the list of data references, the data and other scientific information used to support registration, except for material specifically protected by section 10 of FIFRA, are available for public inspection in the Public Information and Records Integrity Branch, Information Resources and Services Division (7502C), Office of Pesticide Programs, Environmental Protection Agency, Rm. 119, Crystal Mall #2, Arlington, VA ((703) 305-5805). Requests for data must be made in accordance with the provisions of the Freedom of Information Act and must be addressed to the Freedom of Information Office (A-101), 1200 Pennsylvania Ave., NW., Washington, DC 20460-0001. Such requests should: Identify the product name and registration number and specify the data or information desired.

A paper copy of the fact sheet, which provides more detail on this registration, may be obtained from the National Technical Information Service (NTIS), 5285 Port Royal Rd., Springfield, VA 22161.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to submit or view public comments, access the index listing of the contents of the official public docket, and to access those documents in the public docket that are available electronically. Although not all docket materials may be available electronically, you may still access any of the publicly available docket materials through the docket facility identified in Unit I.B.1. Once in the system, select “search,” then key in the appropriate docket ID number.

II. Did EPA Conditionally Approve the Application?

A conditional registration may be granted under section 3(c)(7)(C) of FIFRA for a new active ingredient where certain data are lacking, on condition that such data are received by the end of the conditional registration period and do not meet or exceed the risk criteria set forth in 40 CFR 154.7; that use of the pesticide during the conditional registration period will not cause unreasonable adverse effects; and that use of the pesticide is in the public interest. The Agency has considered the available data on the risks associated with the proposed use of Chondrostereum purpureum strain PFC 2139, Oil of Black Pepper, Piperine, and information on social, economic, and environmental benefits to be derived from such use. Specifically, the Agency has considered the nature and its pattern of use, application methods and rates, and level and extent of potential exposure. Based on these reviews, the Agency was able to make basic health and safety determinations which show that use of Chondrostereum purpureum strain PFC 2139, Oil of Black Pepper, and Piperine, during the period of conditional registration will not cause any unreasonable adverse effect on the environment, and that use of the pesticide is, in the public interest.

Consistent with section 3(c)(7)(C) of FIFRA, the Agency has determined that these conditional registrations are in the public interest. Use of the pesticides are of significance to the user community, and appropriate labeling, use directions, and other measures have been taken to ensure that use of the pesticides will not result in unreasonable adverse effects to man and the environment.

III. Conditionally Approved Registrations

1. EPA issued a notice, published in the Federal Register of December 31, 2001 (66 FR 67520) (FRL-6813-7), which announced that MycoLogic Inc., Department of Biology, University of Victoria, P.O. Box 3020, Victoria, BC, Canada V8W 3N5, submitted applications to register the pesticide products, CP-PFC 2139, a manufacturing use product, for the formulation of an end-use product (EPA File Symbol 74200-R) and Chontrol Paste (a biological herbicide) (EPA File Symbol 74200-E), containing the active ingredient Chondrostereum purpureum isolate PFC 2139, at 1.68% and 0.67%, respectively. These products have not previously been registered.

The applications were conditionally approved on September 23, 2004, containing the active ingredient Chondrostereum purpureum strain PFC 2139 for the manufacturing use product CP-PFC 2139 (EPA Registration Number 74200-1) and for the end-use product Chontrol Paste (EPA Registration Number 74200-2), for control of alders, aspen, and other hardwoods in rights-of-way and forests.

2. EPA issued a notice, published in the Federal Register of December 24, 2003 (68 FR 74576) (FRL-7338-2), which announced that Woodstream Corporation, 69 N. Locust Street, Lititz, PA 17543, had submitted an application to conditionally register the pesticide product, Animal Repellent Granular, animal repellent (EPA File Symbol 50932-RN), containing the active ingredients Oil of Black Pepper at 0.48% and Piperine at 0.185% as active ingredients not included in any previously registered product.

The application was conditionally approved on March 18, 2004 for the end-use product as Animal Repellent Granular (EPA Registration Number 50932-10) for use as an animal repellent.

List of Subjects

Environmental protection, Chemicals, Pesticides and pests.

Dated: December 10, 2004.
Janet L. Andersen,
Director, Biopesticides and Pollution Prevention Division, Office of Pesticide Programs.

[FR Doc. 04-27888 Filed 12-21-04; 8:45 am]

BILLING CODE 6560-50-S